FEDERAL COMMUNICATIONS COMMISSION

47 CFR Part 54

[WC Docket Nos. 11-42, 03-109, 12-23 and CC Docket No. 96-45; FCC 12-11]

Lifeline and Link Up Reform and Modernization, Advancing Broadband Availability Through Digital Literacy Training

AGENCY: Federal Communications Commission.

ACTION: Final rule; correction.

SUMMARY: This document corrects errors in the DATES section of a Federal Register document (77 FR 12952, March 2, 2012) regarding the Federal Communications Commission comprehensively reforming and beginning to modernize the Universal Service Fund's Lifeline program. The reforms adopted will substantially strengthen protections against waste, fraud, and abuse; improve program administration and accountability; improve enrollment and consumer disclosures; initiate modernization of the program for broadband; and constrain the growth of the program in order to reduce the burden on all who contribute to the Universal Service Fund. This document also contains corrections to the paragraph numbering of final rule regulations in part 54.

DATES: Effective March 30, 2012.

FOR FURTHER INFORMATION CONTACT: Kimberly Scardino, Wireline Competition Bureau, (202) 418-7400 or TTY: (202) 418-0484.

SUPPLEMENTARY INFORMATION: This summary contains corrections to the DATES section of a Federal Register document, 77 FR 12952, March 2, 2012. This document also contains corrections to the final rule regulations in part 54. The full text of the Commission's Report and Order in WC Docket Nos. 11-42, 03-109, 12-23 and CC Docket No. 96-45; FCC 12-11 released on February 6, 2012 is available for public inspection during regular business hours in the FCC Reference Center, Room CY-A257, 445 12th Street SW., Washington, DC 20554. Or at the following Internet address: http://transition.fcc.gov/Daily_Releases/Daily_Business/2012/db0207/FCC-12-11A1.doc.

1. Background. Part 54 rules are issued pursuant to the Communications Act of 1934, as amended. The purpose of the part 54 rules is to implement section 254 of the Communications Act of 1934, as amended. 47 U.S.C. 254. This action corrects the final regulation implemented at § 54.410 of the Commission's rules. 47 CFR 54.410. Specifically, this action corrects the numbering of paragraphs (d)(3)(iii) through (d)(3)(ix).

2. Need for Correction. The Federal Register Summary published at 77 FR 12952, March 2, 2012 listed paragraph (d)(3)(ii) in § 54.410 twice. This document corrects the paragraph numbering.

[CORRECTION]

In rule FR Doc. 2012-4978 published at 77 FR 12952, March 2, 2012 make the following corrections.

1. On page 12952, in the first column, in the DATES section, remove “§ 54.401(c)” and add in its place “§ 54.401(d)”.

2. On page 12952, in the first column, in the DATES section, remove “§ 54.222” and add in its place “§ 54.422”.

3. On page 12952, in the first column, in the DATES section, add “§ 54.405(c),” after “§ 54.403,”.

4. On page 12952, in the first column, in the DATES section, add “and § 54.410” after “§ 54.409.”

§ 54.410 [Corrected]

5. In § 54.410 (d)(3) on page 12972, in the first column, paragraphs (d)(3)(iii) through (d)(3)(viii) are redesignated as (d)(3)(iv) through (d)(3)(ix); and the second paragraph (d)(3)(ii) is redesignated as (d)(3)(iii).

Federal Communications Commission.
Bulah P. Wheeler,
Deputy Manager.

[FR Doc. 2012-7747 Filed 3-29-12; 8:45 am]

BILLING CODE 6712-01-P